FEDERAL ELECTION COMMISSION

Sunshine Act Meeting Notice

Previously Scheduled Date and Time: Thursday, September 28, 2006, Meeting Open to the Public. This meeting was cancelled.

Date and Time: Tuesday, October 3, 2006 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Wednesday, October 4, 2006 at 10 a.m.

Place: 999 E Street, NW., Washington, DC (Ninth Floor).

Status: This meeting will be open to the public.

Items to be Discussed: Correction and Approval of Minutes.

Advisory Opinion 2006-20: Unity 08 by counsel, John J. Duffy.

Advisory Opinion 2006-24: National Republican Senatorial Committee by General Counsel William J. McGinley; Democratic Senatorial Campaign Committee by counsel, Marc Elias; Republican State Committee of Pennsylvania by General Counsel Lawrence J. Tabas.

Report of the Audit Division on Daniel Mongiardo for U.S. Senate.

Management and Administrative Matters.

PERSON TO CONTACT FOR INFORMATION: Mr. Robert Biersack, Press Officer.

Mary W. Dove,
Secretary of the Commission.

[FR Doc. 06-8376 Filed 9-26-06; 2:51 pm]

BILLING CODE 6715-01-M